DEPARTMENT OF STATE

22 CFR Part 62

RIN 1400-AC38

[Public Notice 5977]

Exchange Visitor Program—Fees and Charges for Exchange Visitor Program Services

AGENCY: Department of State.

ACTION: Final rule.

SUMMARY: On June 22, 2007, the Department of State published a Proposed Rule to revise its regulations regarding fees and charges for Exchange Visitor Program services. These proposed regulations are adopted without change. The fees permit the Department to recoup the cost of providing such Exchange Visitor Program services.

DATES: Effective Date: This rule is effective December 3, 2007.

FOR FURTHER INFORMATION CONTACT: Stanley S. Colvin, Director, Office of Exchange Coordination and Designation, U.S. Department of State, SA-44, 301 4th Street, SW., Room 734, Washington, DC 20547; 202-203-5096 or e-mail at jexchanges@state.gov.

SUPPLEMENTARY INFORMATION: The Department published a proposed rule, Public Notice 5837 at 72 FR 34419-34424, June 22, 2007, with a request for comments, removing regulations presently set forth at 22 CFR Part 62, Subpart H—“Fees”, § 62.90 and adding a new § 62.17 (“Fees and Charges”) containing all of the fees and charges for Exchange Visitor Program services. The rule was discussed in detail in Public Notice 5837, as were the Department's reasons for the other changes to the regulations. The Department received eight comments and is now promulgating a final rule with no changes from the proposed rule.

Comment Analysis

The Department received eight comments. One was from a private organization, and due to rising costs found the new fees wholly acceptable. One comment had no relevance to the proposed rule. Six comments were from academic institutions that opined that the new fees may prove problematic due to their institutional budget cycles. The Department is of the opinion that the new redesignation fee of $1,748, due every two years, imposes little or no hardship on the U.S. higher education community and notes that only six of more than 900 such institutions responded to this notice.

Regulatory Findings

Administrative Procedure Act

This regulation involves a foreign affairs function of the United States and, therefore, in accordance with 5 U.S.C. 553(a)(1), is not subject to the rule making procedures set forth at 5 U.S.C. 553.

Regulatory Flexibility Act/Executive Order 13272: Small Business.

This rule is not subject to the notice-and-comment rulemaking provisions of the Administrative Procedure Act or any other act and, accordingly it does not require analysis under the Regulatory Flexibility Act (5 U.S.C. 601, et seq.) and Executive Order 13272, section 3(b).

The Unfunded Mandates Reform Act of 1995

Section 202 of the Unfunded Mandates Reform Act of 1995 (UFMA), Public Law 104-4, 109 Stat. 48, 2 U.S.C. 1532, generally requires agencies to prepare a statement before proposing any rule that may result in an annual expenditure of $100 million or more by State, local, or tribal governments, or by the private sector. This rule will not result in any such expenditure, nor will it significantly or uniquely affect small governments.

The Small Business Regulatory Enforcement Fairness Act of 1996

This rule is not a major rule as defined by 5 U.S.C. 804, for purposes of congressional review of agency rulemaking under the Small Business Regulatory Enforcement Fairness Act of 1996, Public Law 104-121. This rule will not result in an annual effect on the economy of $100 million or more; a major increase in costs or prices; or adverse effects on competition, employment, investment, productivity, innovation, or the ability of United States-based companies to compete with foreign-based companies in domestic and import markets.

Executive Order 12866: Regulatory Review

The Department of State has reviewed this rule to ensure its consistency with the regulatory philosophy and principles set forth in Executive Order 12866 and has determined that the benefits of the proposed regulation justify its costs. The Department does not consider the rule to be an economically significant action within the scope of section 3(f)(1) of the Executive Order, since it is not likely to have an annual effect on the economy of $100 million or more or to adversely affect in a material way the economy, a sector of the economy, competition, jobs, the environment, public health or safety, or State, local, or tribal governments or communities.

Executive Orders 12372 and 13132: Federalism

This regulation will not have substantial direct effects on the States, on the relationship between the national government and the States, or the distribution of power and responsibilities among the various levels of government. Therefore, in accordance with section 6 of Executive Order 13132, it is determined that this rule does not have sufficient federalism implications to require consultations or warrant the preparation of a federalism summary impact statement. The regulations implementing Executive Order 12372 regarding intergovernmental consultation on Federal programs and activities do not apply to this regulation.

Executive Order 12988: Civil Justice Reform

The Department has reviewed the proposed regulations in light of sections 3(a) and 3(b)(2) of Executive Order No. 12988 to eliminate ambiguity, minimize litigation, establish clear legal standards and reduce burden.

Paperwork Reduction Act

This rule does not impose information collection requirements under the provisions of the Paperwork Reduction Act, 44 U.S.C., Chapter 35.

List of Subjects in 22 CFR Part 62

Cultural Exchange Programs.

Accordingly, 22 CFR part 62 is amended as follows:

PART 62—EXCHANGE VISITOR PROGRAM

1. The Authority citation for part 62 is revised to read as follows:

Authority: 8 U.S.C. 1101(a)(15)(J), 1182, 1184, 1258; 22 U.S.C. 1431-1442, 2451-2460; Pub. L. 105-277, Div. G, 112 Stat. 2681-761 et seq.; Reorganization Plan No. 2 of 1977, 3 CFR, 1977 Comp. p. 200; E.O. 12048 of March 27, 1978; 3 CFR, 1978 Comp. p. 168; Pub. L. 104-208, Div. C, 110 Stat. 3009-546, as amended; Pub. L. 107-56, Sec. 416, 115 Stat. 354; and Pub. L. 107-173, 116 Stat. 543.

2. Section 62.17 is added to read as follows:

§ 62.17 Fees and charges.

(a) Remittances. Fees prescribed within the framework of 31 U.S.C. 9701 must be submitted as directed by the Department and must be in the amount prescribed by law or regulation.

(b) Amounts of fees. The following fees are prescribed for Fiscal Years 2008-2009 (October 1, 2007—September 30, 2009):

(1) For filing an application for program designation and/or redesignation (Form DS-3036)—$1,748.

(2) For filing an application for extension beyond the maximum duration, change of category, reinstatement, reinstatement-update SEVIS status, ECFMG-sponsorship authorization, and permission to issue—$246.

Subpart H [Removed]

3. Remove Subpart H consisting of § 62.90.

Dated: September 20, 2007.
Stanley S. Colvin,
Director, Office of Exchange Coordination and Designation, Bureau of Educational and Cultural Affairs, Department of State.

[FR Doc. E7-21472 Filed 10-31-07; 8:45 am]

BILLING CODE 4710-05-P